FEDERAL COMMUNICATIONS COMMISSION

47 CFR Parts 20 and 64

[CC Docket No. 92-105, WT Docket No. 00-110; FCC 01-351]

The Use of N11 Codes and Other Abbreviated Emergency Dialing Arrangements

AGENCY: Federal Communications Commission.

ACTION: Final rule.

SUMMARY: The Commission, through this document, takes several steps towards implementation of 911 as the universal emergency assistance number for both wireline and wireless telephones. Specifically, the Commission adopts a maximum period for all carriers, serving areas with a designated public safety answering point (PSAP) or serving areas where a PSAP has not yet been designated, to transition to routing 911 calls to a PSAP, an existing statewide established default point, or an appropriate local emergency authority. The decision also addresses steps the Commission will take to encourage and support States in their efforts to develop and implement end-to-end emergency communications infrastructure and programs for the improved delivery of emergency services to the public. Finally, the decision clarifies that VHF Public Coast Station licensees are not required to use 911 dialing for accessing emergency services to the extent that they are providing maritime services. The action is taken to satisfy the Commission's legislative mandate and to promote public safety through the deployment of a seamless, nationwide emergency communications infrastructure that includes wireless communications services.

EFFECTIVE DATE: February 13, 2002, except for § 64.3002, which contains modified information collection requirements that are not effective until approved by the Office of Management and Budget. The Commission will publish a document in the Federal Register announcing the effective date for this section. Public comment on the information collections are due March 15, 2002, and comments by the Office of Management and Budget are due May 14, 2002.

ADDRESSES: A copy of any comments on the information collection contained herein should be submitted to Judy Boley, Federal Communications Commission, Room 1-C804, 445 12th Street, SW., Washington, DC 20554, or via the Internet to jboley@fcc.gov.

FOR FURTHER INFORMATION CONTACT: Susan Kimmel or David Siehl,202-418-1310, or Cheryl Callahan, 202-418-1806. For further information concerning the information collection contained in this Order, contact Judy Boley, Federal Communications Commission, 202-418-0214, or via the Internet at jboley@fcc.gov.

SUPPLEMENTARY INFORMATION: This is a summary of the Commission's Fifth Report and Order in CC Docket No. 92-105, First Report and Order in WT Docket No. 00-110 (Order), and Memorandum Opinion and Order in CC Docket No. 92-105 and WT Docket No. 00-110, FCC No. 01-351 (cited collectively as Order), adopted November 29, 2001, and released December 11, 2001. The complete text of this Order is available for inspection and copying during normal business hours in the FCC Reference Information Center, Courtyard Level, 445 12th Street, SW., Washington, DC, and also may be purchased from the Commission's copy contractor, Qualex International, Portals II, 445 12th Street, SW., Room CY-B402, Washington, DC 20554. Copies of the full text of this decision may also be found at the Commission's Internet site at www.fcc.gov.

Synopsis of the Order

1. The Commission, in the Order, takes further steps to implement the provisions in the Wireless Communications and Public Safety Act of 1999 (911 Act), enacted by Congress to promote public safety through the deployment of a seamless, nationwide emergency communications infrastructure that includes wireless communications services and to implement 911 as the universal emergency assistance number. (A summary of the Third Notice of Proposed Rulemaking in CC Docket No. 92-105 may be found at 65 FR 56752, September 19, 2000. The First Notice of Proposed Rulemaking in WT Docket No. 00-110 was summarized at 65 FR 56757, September 19, 2000.)

2. The Commission first adopts a flexible transition approach to implementation of 911 as the emergency assistance number. This approach reflects the different technical and operational measures that carriers need to undertake and provides carriers the flexibility necessary for them to effectuate transition to 911 expeditiously. The Commission notes that the transition period adopted in the Order does not apply to those carriers who currently route 911 calls to PSAPs in their service area.

3. As an initial matter, paragraph 14 of the Order discusses the use of the term “appropriate authorities” as used in the 911 Act, and finds it reasonable to interpret this term to include emergency answering points such as county sheriff offices, volunteer fire departments, or other similar points that are effectively functioning as PSAPs for purposes of receiving emergency calls, and, if necessary, relaying the calls to other emergency service providers, for the purpose of responding to emergencies.

4. As discussed in paragraphs 15 through 31 of the full text of the Order, the Commission establishes a flexible transition approach to 911 implementation. First, where carriers do not currently route 911 calls to officially designated PSAPs, the Commission adopts a nine-month transition period for each of the particular circumstances carriers will face. Where a PSAP has been designated, the Commission adopts a maximum period, running from the release of this Order and expiring nine months later, for carriers to deliver all 911 calls to that PSAP. Similarly, in areas where no PSAP has been designated, the Commission adopts a requirement that within nine months of the release of this Order, carriers must begin delivering 911 calls: (a) statewide-established default point; (b) if none exists, to an appropriate local emergency authority, such as the police or county sheriff, selected by an authorized State or local entity; or (c) as a matter of last resort and to avoid the blocking of 911 calls, if no PSAP has been designated and neither a statewide default answering point nor an appropriate local emergency authority has been selected, to an appropriate local emergency authority, based on the exercise of the carrier's reasonable judgment, following initiation of contact with the State Governor's designated entity under section 3(b) of the 911 Act.

5. In this regard, the Commission strongly encourages State and local authorities to designate the appropriate emergency response points. The Commission believes that these government agencies, as the primary safety and security agencies should decide the routing of 911 calls. For these reasons, once a carrier has been made aware that no appropriate local emergency authority has been selected, the carrier should notify the Governor's designated entity as soon as practicable of that matter and allow at least 15 days for a response from that entity before proceeding to select an answering point on its own initiative.

6. Further, as discussed in paragraphs 16, 33, and 34 of the Order, in transitioning to the use of 911, carriers must implement a permissive dialing period, during which emergency calls will be routed to the appropriate emergency response point using either 911 or the seven or ten-digit number to allow time for the education of consumers as to the transition to the use of 911. The Commission requires carriers to continue to deliver both 911 calls and emergency calls made using a seven or ten-digit number under a permissive dialing scheme until the State or local jurisdiction determines to phase out the use of the seven or ten-digit number entirely. Once a determination has been made to end a permissive dialing period, as described in paragraphs 16 and 37 of the Order, the Commission requires carriers to furnish a standard intercept message, in accordance with accepted industry practices and guidelines to further educate callers about the dialing code change.

7. Additionally, as indicated in paragraphs 42 through 45 of the Order, the Commission adopts a limited transition report requirement. Specifically, the Commission requires carriers to file two transition reports covering the following geographic areas: (1) Those counties where there is no 911 service; (2) those counties in the process of implementing 911; and (3) those counties that have basic 911 service only in some parts. The first transition report must be filed three months following the release of the Order. The second transition report must be filed 15 calendar days following the end of the transition. Carrier transition reports must be filed, as appropriate depending upon whether the carrier's service is wireline or wireless, with the Chief of the Common Carrier Bureau or the Chief of the Wireless Telecommunications Bureau, Federal Communications Commission, 445 12th Street, SW., Washington, DC 20554. The Commission encourages carriers to file their transition reports electronically to the appropriate electronic mailbox that has been established by each Bureau. For ease of accessibility, a link to these reports will be placed on the Commission's E911 website. Depending upon whether the carrier's service is wireline or wireless, please email the report to either 911transitionreport-ccb@fcc.gov or 911transitionreport-wtb@fcc.gov. In addition to the information included in the reports as described in paragraphs 44 and 45 of the Order, the Commission delegates authority to the Chiefs of the Common Carrier Bureau and the Wireless Telecommunications Bureau to require additional information, as necessary to evaluate the carriers' progress in achieving the transition and their compliance with the transition requirements adopted in the Order.

8. Paragraphs 46 through 52 of the Order address steps the Commission will take to encourage and support States in their efforts to develop and implement end-to-end emergency communications infrastructure and programs for the improved delivery of emergency services to the public. The Commission assumes a leadership role to encourage and support States' efforts to deploy comprehensive emergency communications networks by pursuing an informal approach rather than the adoption of specific rules. To carry out its role, the Commission will maintain an ongoing dialog with State and local officials, through interactions with various associated groups such as the National Governors' Association, the National Conference of State Legislatures, and the National Association of Regulatory Utility Commissioners. The Commission also will make presentations on 911-related issues at conferences of various associations, hold roundtable discussions, and provide an information clearinghouse function with links from its E911 website. The Commission will also explore participation in the National Emergency Number Association's (NENA) “critical issues forums,” providing a website link for NENA's Report Card to the Nation and updates to that report and assisting in the establishment of State-level clearinghouses.

9. Finally, paragraphs 55 through 62 of the Order clarify that VHF Public Coast Station licensees are not required to use 911 dialing for accessing emergency services to the extent that they are providing maritime services.

Procedural Matters

Paperwork Reduction Act of 1995 Analysis

10. This Order contains a modified information collection. As part of the Commission's continuing effort to reduce paperwork burdens, the Commission invites the general public and the Office of Management and Budget to take this opportunity to comment on the information collections contained in this Order, as required by the Paperwork Reduction Act of 1995, Public Law 104-13. Public and agency comments are due March 15, 2002, and comments from the Office of Management and Budget are due May 14, 2002. Comments should address: (a) Whether the modified collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. The Commission has requested OMB emergency approval of these modified burdens and will place a document in the Federal Register once this approval is received.

OMB Control Number: 3060-0954.

Title: Implementation of the 911 Act, The Use of N11 Codes and Other Abbreviated Dialing Arrangements.

Form No. N.A.

Type of Review: Revision of an existing information collection.

Respondents: Business or other for profit; not for profit institutions, State or local government.

Number of Respondents: 800 respondents, 400 responses.

Estimated Time Per Response: 4.5 hours.

Frequency of Response: Third-party Disclosure, on occasion; Reporting, twice.

Total Annual Burden: 3,100 hours.

Cost to Respondents: 0.

Needs and Uses: The burdens contained in this Order are all needed to ensure prompt and smooth transition to universal 911 emergency calling services.

Final Regulatory Flexibility Act Analysis

11. This is a summary of the Commission's Final Regulatory Flexibility Analysis. The full text of the Analysis may be found in Appendix C of the Order.

12. As required by the Regulatory Flexibility Act of 1980, as amended (RFA), Initial Regulatory Flexibility Analyses (IRFA) were incorporated in the Notice of Proposed Rulemaking (NPRM) and the Third NPRM (Third NPRM) in this proceeding. The Commission sought written public comment on the proposals in the NPRM and the Third NPRM, including comment on both IRFAs. This present Final Regulatory Flexibility Analysis (FRFA) conforms to the RFA.

Need for, and Objectives of the Memorandum Opinion and Order on Reconsideration and Fifth Report and Order

13. In this and Fifth Report and Order (Fifth R&O) in CC Docket No. 92-105, First Report and Order (First R&O) in WT Docket No. 00-110, and Memorandum Opinion and Order on Reconsideration in both dockets (collectively referred to as the Order) the Commission takes further steps to implement the provisions in the Wireless Communications and Public Safety Act of 1999 (911 Act) enacted to promote public safety through the deployment of a seamless, nationwide emergency communications infrastructure that includes wireless communications services. The actions adopted in the Order are intended to ensure that these Congressional goals are implemented effectively and efficiently.

Summary of Significant Issues Raised by Public Comments in Response to the IFRAs

14. No comments were filed in direct response to the IRFAs. However, the Commission received comments regarding several issues affecting small entities. For example, as discussed in paragraphs 4 through 9 of the Order, commenters questioned whether the Commission is the appropriate entity to establish transition periods for implementation of universal 911 dialing. The Commission disagrees, finding that to delegate the responsibility to States and localities for establishing transition periods for carriers could result in multiple, conflicting transition periods. Also, as indicated in paragraphs 42 through 45 of the Order, commenters opposed a requirement that carriers file transition reports for Commission use as a tool to monitor carrier progress in converting to universal 911. However, the Commission adopts a limited transition report requirement which is less burdensome than that proposed in the Third NPRM. As adopted, carriers are required to file only two reports and these reports will focus only on carriers serving those areas of country in which 911 is not currently in use. This requirement is discussed in more depth in the FRFA section, infra, considering steps taken to minimize the significant economic impact on small entities and alternatives considered.

15. Paragraphs 48 through 52 of the Order discusses ways in which the Commission can comply with its obligation to offer support of comprehensive state emergency plans. Although the Commission received only nine comments on this issue, one comment, for American Samoa License, Inc., in particular, provided significant input on, among other things, the unique circumstances of its situation and the way a “one-size-fits-all” model plan would not address its particular needs. In response to such comment, the Commission adopts an informal leadership approach to its responsibilities in this regard, for example, by participating in organizational meetings setup by interested parties, and placing details of information-sharing measures by means of the FCC's website and public notice, which the Commission hopes will encourage increased participation to which we can add our support.

Description and Estimate of the Number of Small Entities to Which Rules Will Apply

16. The RFA directs agencies to provide a description of, and where feasible, an estimate of the number of small entities that may be affected by the proposed rules adopted in this action. The RFA generally defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA).

17. A small organization is generally “any not-for-profit enterprise which is independently owned and operated and is not dominant in its field.” Nationwide, as of 1992, there were approximately 275,801 small organizations. The definition of “small governmental jurisdiction” generally means “governments of cities, counties, towns, townships, villages, school districts, or special districts with populations of fewer than 50,000.” There are 85,006 governmental jurisdictions in the nation. This number includes such entities as states, counties, cities, utility districts, and school districts. There are no figures available on what portion of this number has populations of fewer than 50,000. However, this number includes 38,978 counties, cities and towns, and of those, 37,556, or 96 percent, have populations of fewer than 50,000. The Census Bureau estimates that this ratio is approximately accurate for all government entities. Thus, of the 85,006 governmental entities, we estimate that 96 percent, or about 81,600, are small entities that may be affected by our rules.

18. This list includes categories that at present may not be subject to the 911 Act rules. At present, covered carriers include all cellular licensees, broadband PCS licensees, and certain carriers of Specialized Mobile Radio (SMR) licensees. The SMR providers that are presently covered include “only licensees that offer real-time, two-way switched voice service that is interconnected with the public switched network, either on a stand-alone basis or packaged with other telecommunications services.” For those carriers that presently do not need to comply with the 911 requirements, such as Mobile Satellite Service (MSS) carriers, the Commission acknowledges that, at some point in the future, they may be required to provide appropriate access to emergency services.

19. Neither the Commission nor the SBA has developed definitions for small providers of the specific industries affected. Therefore, throughout our analysis, the Commission uses the closest applicable definition under the SBA rules, the North American Industry Classification System (NAICS) standards for “Cellular and Other Wireless Telecommunications” and “Wired Telecommunications Carriers.” According to these standards, a small entity is one with no more than 1,500 employees. To determine which of the affected entities in the effected services fit into the SBA definition of small business, the Commission has consistently referred to Table 5.3 in Trends in Telephone Service (Trends) a report published annually by the Commission's Common Carrier Bureau.

20. Local Exchange Carriers. According to the most recent Trends data, 1,335 incumbent carriers reported that they were engaged in the provision of local exchange services. We do not have data specifying the number of these carriers that are either dominant in their field of operations, or are not independently owned. However Trends indicates that 1,037 local exchange carriers report that, in combination with their affiliates, they have 1,500 or fewer employees, and would thus be considered small businesses as defined by NAICS.

21. We have included small incumbent local exchange carriers in this RFA analysis. A “small business” under the RFA is one that, inter alia, meets the pertinent small business size standard (e.g., a telephone communications business having 1,500 or fewer employees), and “is not dominant in its field of operation.” The SBA's Office of Advocacy contends that, for RFA purposes, small incumbent local exchange carriers are not dominant in their field of operation because any such dominance is not “national” in scope. We have therefore included small incumbent carriers in this RFA analysis, although we emphasize that this RFA action has no effect on the Commission's analyses and determinations in other, non-RFA contexts.

22. Also included in the number of Local Exchange Carriers is the rural radio telephone service. A significant subset of the Rural Radiotelephone Service is the Basic Exchange Telephone Radio Systems (BETRS). There are approximately 1,000 licensees in the Rural Radiotelephone Service, and we estimate that almost all of them qualify as small entities under the NAICS definition.

23. Competitive Access Providers and Competitive Local Exchange Carriers (CAPs and CLECs). Trends indicates that 349 CAPs and CLECs, 87 local resellers, and 60 other local exchange carriers reported that they were engaged in the provision of competitive local exchange services. The Commission does not have data specifying the number of these carriers that are not independently owned and operated. However, Trends states that 297 CAPs and CLECs, 86 local resellers, and 56 other local exchange carriers report that, in combination with their affiliates, they have 1,500 or fewer employees for a total of 439 such entities qualified as small entities.

24. Fixed Local Service Providers and Payphone Providers. Trends reports that there are 1,831 fixed local service providers and 758 payphone providers. Using the NAICS standard for small entity of fewer than 1,500 employees, Trends estimates that 1,476 fixed local service providers, in combination with affiliates have 1,500 or few employees and thus qualify as small entities. In addition, 755 payphone providers report that, in combination with their affiliates, they employ 1,500 or fewer individuals.

25. Wireless Telephone Including Cellular, Personal Communications Service (PCS) and SMR Telephony Carriers. There are 806 entities in this category as estimated in Trends, and 323 such licensees in combination with their affiliates have 1,500 or fewer employees and thus qualify using the NAICS guide, as small businesses.

26. Other Mobile Service Providers. Trends estimates that there are 44 providers of other mobile services, and again using the NAICS standard, 43 providers of other mobile services in combination with their affiliates hire 1,500 or fewer employees and thus may be considered small entities.

27. Toll Service Providers. Trends calculates that there are 738 toll service providers, including 204 interexchange carriers, 21 operator service providers, 21 pre-paid calling card providers, 21 satellite service carriers, 454 toll resellers, and 17 carriers providing other toll services. Trends further estimates that 656 toll service providers with their affiliates have 1,500 or fewer employees and thus qualify as small entities as defined by NAICS. This figure includes 163 interexchange carriers, 20 operator service providers, 20 pre-paid calling card providers, 16 satellite service carriers, 423 toll resellers, and 15 carriers providing other toll services.

28. Offshore Radiotelephone Service. This service operates on several TV broadcast channels that are not otherwise used for TV broadcasting in the coastal area of the states bordering the Gulf of Mexico. At present, there are approximately 55 licensees in this service. The Commission is unable at this time to estimate the number of licensees that would qualify as small entities under the SBA definition for radiotelephone communications. The Commission assumes, for purposes of this FRFA, that all of the 55 licensees are small entities, as that term is defined by NAICS.

Description of Projected Reporting, Recordkeeping, and Other Compliance Requirements

29. The Commission adopts a flexible approach of basic requirements based on maximum periods for certain technical and operational aspects of a transition and recommends steps to ensure the prompt delivery of emergency calls across the nation. Paragraphs 18 through 21 of the Order consider transition periods for areas where there is a designated public safety answering point (PSAP) or once a PSAP is designated. For areas in which State or local authorities have established a PSAP, the Commission adopts a maximum nine-month transition period that runs from December 11, 2001, for carriers to deliver all 911 calls to that PSAP. Subsequent to the transition period, the Commission establishes a permissive dialing period in order for carriers to educate consumers on the transition to 911-dialing. The Commission also encourages such carriers, following the permissive dialing period, to furnish a standard intercept message. (See paragraphs 16 and 37 of the Order).

30. Also, as detailed in paragraphs 22 through 31 of the Order, in areas where there is no PSAP, the Commission adopts the following requirements: within nine months of the effective date of this Order, carriers must begin delivering 911 calls to either a statewide established default point or, if none exists, to an appropriate local emergency authority, such as the police or country sheriff. If a State or local authority prefers that carriers deliver 911 calls to some other local default point, the Commission provides that carriers must begin delivering 911 calls to such a default point no later than nine months from the date of the request by the local authority or appropriate State entity. Once a State or local authority has formally designated a PSAP for an area, a carrier will have a nine-month period to deliver 911 calls to that PSAP. Paragraph 27 of the Order establishes that, where no appropriate local emergency authority has been selected, that carriers contact, as soon as practicable, the entity designated by that State's Governor to assist in implementation of 911, and to allow 15 days for a response. If none is forthcoming, then carriers should exercise reasonable judgment in determining where to deliver 911 calls.

31. Paragraphs 42 through 45 of the Order consider implementation and enforcement of transition period deadlines. In this regard, the Commission adopts a limited transition report requirement which requires that carriers serving areas where 911 is not in use as the emergency number on the date of enactment of the law file two reports as detailed in paragraphs 43-45 of the Fifth R&O.

Steps Taken to Minimize Significant Economic Impact on Small Entities, and Significant Alternatives Considered

32. The RFA requires an agency to describe any significant alternatives that it has considered in reaching its proposed approach, which may include, among others, the following four alternatives: (1) The establishment of differing compliance or reporting requirements or timetables that take into account the resources available to small entities; (2) the clarification, consolidation, or simplification of compliance and reporting requirements under the rule for such small entities; (3) the use of performance rather than design standards; and (4) any exemption from coverage of the rule, or any part thereof, for such small entities.

33. The Commission is limited in establishing less stringent requirements for small entities in this proceeding by the critical public safety issues of concern and by legislative mandate. The results of delayed or insufficient response to wireless 911 calls can be equally fatal whether the carrier involved is a large or small entity. When given alternatives which do not compromise the public safety goals of this proceeding but offer all entities the flexibility to carry out their responsibilities in a way that is tailored to their individual locality and its needs, the Commission has chosen the more flexible option. For example, in areas where there is neither a PSAP nor a statewide default answering point, many of which are served by small carriers or are governed by small entities, an existing local law enforcement agency such as a country sheriff could serve as the local emergency authority.

34. On the other hand, several carrier-commenters recommend that the Commission allow carriers and States and localities to establish transition periods for implementation of 911 dialing. As discussed in paragraphs 5 through 9 of the Fifth R&O, the Commission declines to adopt this alternative, finding that to delegate such authority to carriers and PSAPs could result in multiple, conflicting transition periods and create confusion in critical emergency situations as travelers move from one locality to another. Further, the Commission finds that delegating the authority to establish 911 transition periods to carriers and PSAPS could hinder the Commission's ability to ensure that the transition to 911 dialing occurs on a timely basis and could hinder the Commission's overall ability to monitor the transition to 911 as the nationwide emergency number. If the Commission had authorized States and localities to establish 911 transition periods, it would place the responsibility and burden for this administrative work on the entities themselves, many of whom are small. It should be noted, however, that the Commission recognized the need for a transition period, noting the fluid nature of technology, and provided the flexible transition period adopted in the Fifth R&O. The transition period will allow both large and small carriers time, not only to complete the technological updates and coordination which may be necessary to provide 911 service, but also time to educate the public regarding 911 service. Also, in establishing flexible transition periods, the Commission recognizes that individual service areas face different technical and operational measures.

35. In this regard, as discussed in paragraphs 32 through 39 of the Order, the Commission elects not to promulgate rules for carriers to educate the public about 911 transition, but simply encourages carriers to plan and provide time in the transition period for planning and executing a public education program. Several commenters suggest additional requirements regarding educating the public, which the Commission found to be unnecessary and burdensome, particularly on small entities. One commenter, for example, proposed a requirement that carriers service areas that currently use non-911 abbreviated numbers for emergency purposes notify the agency using such numbers that they will not be available after the transition period. The same commenter recommended requirements for carriers to provide billing inserts apprising customers of the conversion to 911 as the universal emergency assistance number. The Commission encourages such public education efforts to enable the permissive dialing period to be discontinued. Nonetheless, once discontinued, the Rules require the carriers to intercept calls made via non-911 emergency numbers with an announcement to alert the caller to the change to 911 for emergency calls. This offers all carriers, including small carriers, the flexibility to design the appropriate public education program that best satisfies the need for 911 education within the individual service area, while offering the carrier some control over expenditures in this area.

36. In one area, however, the Commission, faced with its legislative mandate to monitor the progress of carriers in the transition to 911, adopted a requirement that may particularly impact rural and small carriers. As indicated in paragraphs 42 through 45 of the Order, the Commission adopts a limited requirement for transition reports. In the NPRM, the Commission proposed a broader approach to transition reports that would have affected all carriers and would be filed on a more regular basis than the requirement adopted in the Fifth R&O. The adopted requirement states that only those carriers providing service in areas where 911 is not in use as the emergency number on the date of enactment of the law must file two reports. The filing of the reports will be limited to those counties where there is no 911 service; those counties that are in the process of implementing 911; and those counties that have basic 911 service only in some parts. The first report is to be filed March 11, 2002 and the second report 15 calendar days after the end of the transition period. Although the actual regulation is less burdensome overall on all carriers, it is likely that carriers that do not yet offer 911 service would be small entities as defined by the SBA. In addition, as described in paragraph 27 of the Order, the Commission adopts a requirement that carriers serving areas where no PSAP or appropriate local emergency authority has been established must initiate contact with the entity designated by the Governor before exercising reasonable judgment as to where to deliver 911 calls.

37. The Commission recognizes that the burden for making progress towards 911 implementation may fall, during the transition period, on small and rural entities because they are most likely to require the most effort in implementing 911. They may cover larger, less populated areas who may face funding problems and who may have farther to go in achieving the expensive technological advances which facilities serving more urban areas have access to. By the same token, however, these same disadvantages that many such small carriers and State or local governments face also dictate a need for optimum 911 emergency service as quickly as possible. The Commission has tried to make compliance with 911 rules and implementation dates as fair as possible to small entities by, for example, establishing flexible transition periods. In establishing the limited transition report requirement, the Commission provides that carriers might, at their option, consolidate reporting and eliminate redundant reports by filing the transition reports either collectively with those carriers similarly situated or combining reports for several counties facing similar problems, thus saving the affected carriers time and costs. It is intended that the transition reports will provide the Commission with information leading to solutions to the unique problems faced by small entities in the implementation of 911 service. In addition, the Commission hopes the reporting process will generate a cooperative dialogue regarding how entities with similar problems can resolve such issues.

38. The Commission, instead of establishing a proposed program that would require carriers and PSAPS, large and small, to provide information to each other or to the Commission regarding problems exclusive to their locality, establishes an informal program in which the Commission would serve as a clearinghouse for such information. Further, instead of establishing a coordination requirement forcing PSAPs and carriers to meet to discuss intra-locality issues, the Commission emphasizes the importance of assuming a leadership role in providing coordination and technical assistance and endorses the joint leadership of the Commission and State Governors in this area to assist parties involved with integrated comprehensive emergency communications systems. (See paragraphs 46 through 52 of the Order)

39. Report to Congress: The Commission will send a copy of this decision, including this FRFA, in a report to be sent to Congress pursuant to the Congressional Review Act, 5 U.S.C. 801(a)(1)(a). In addition, the Commission will send a copy of the Order, including this FRFA to the Chief Counsel for Advocacy of the Small Business Administration.

Ordering Clauses

40. Pursuant to §§ 1, 4(i), 4(j), 7, 10, 201, 202, 208, 214, 251(e)(3), 301, 303, 308, 309(j), and 310 of the Communications Act of 1934, as amended, 47 U.S.C. 151, 154(i), 154(j), 157, 160, 210, 202, 208, 214, 251(e), 301, 303, 308, 309(j), and 310, the Fifth Report and Order in CC Docket No. 92-105 is adopted.

41. Part 64, new Subpart AA, of the Commission's rules is adopted to require wireline and wireless licensees to complete the transition to 911 as the universal emergency assistance number, as set forth in Appendix B of the Order and will become effective February 13, 2002, except for § 64.3002, which contains modified information collection requirements that are not effective until approved by the Office of Management and Budget. The Commission will publish a notice in the Federal Register announcing the effective date for this section.

42. The Commission's Consumer Information Bureau, Reference Information Center, shall send a copy of this, Fifth Report and Order, First Report and Order, and Memorandum Opinion and Order, including the Final Regulatory Flexibility Analysis, to the Chief Counsel for Advocacy of the Small Business Administration.

43. Pursuant to §§ 1, 4(i), 4(j), 7, 10, 201, 202, 208, 214, 251(e)(3), 301, 303, 308, 309(j), and 310 of the Communications Act of 1934, as amended, 47 U.S.C. 151, 154(i), 154(j), 157, 160, 210, 202, 208, 214, 251(e), 301, 303, 308, 309(j), and 310, the First Report and Order in WT Docket No. 00-110 is adopted.

44. The Petition for Reconsideration or Clarification of the Fourth Report and Order, in CC Docket No. 92-105, filed by Maritel, Inc. on September 28, 2000, IS GRANTED to the extent described in the Order.

45. Authority is hereby delegated to the Chiefs of the Common Carrier Bureau and the Wireless Telecommunications Bureau to require additional information, as necessary, to evaluate carriers progress in achieving the transition to the use of 911 and their compliance with the transition requirements set forth in the Order.

List of Subjects

47 CFR Part 20

Communications common carrier, Communications equipment, Radio.

47 CFR Part 64

Communications common carrier, Radio, Reporting and recordkeeping requirements, Telephone.

Federal Communications Commission.
William F. Caton,
Deputy Secretary.

Rule Changes

For the reasons discussed in the preamble, the Federal Communications amends 47 CFR Parts 20 and 64 as follows:

PART 20—COMMERCIAL MOBILE RADIO SERVICES

1. The authority citation for part 20 continues to read as follows:

Authority: 47 U.S.C. 154, 160, 251-254, 303, and 332 unless otherwise noted.

2. Section 20.3 is amended by adding definitions of “appropriate local emergency authority” and “statewide default answering point” in alphabetical order to read as follows:

§ 20.3 Definitions.

Appropriate local emergency authority. An emergency answering point that has not been officially designated as a Public Safety Answering Point (PSAP), but has the capability of receiving 911 calls and either dispatching emergency services personnel or, if necessary, relaying the call to another emergency service provider. An appropriate local emergency authority may include, but is not limited, to an existing local law enforcement authority, such as the police, county sheriff, local emergency medical services provider, or fire department.

* * * * *

Statewide default answering point. An emergency answering point designated by the State to receive 911 calls for either the entire State or those portions of the State not otherwise served by a local PSAP.

3. Section 20.18(b) is revised to read as follows:

§ 20.18 911 Service.

* * * * *

(b) Basic 911 Service. Licensees subject to this section must transmit all wireless 911 calls without respect to their call validation process to a Public Safety Answering Point, or, where no Public Safety Answering Point has been designated, to a designated statewide default answering point or appropriate local emergency authority pursuant to § 64.3001 of this chapter, provided that “all wireless 911 calls” is defined as “any call initiated by a wireless user dialing 911 on a phone using a compliant radio frequency protocol of the serving carrier.”

* * * * *

PART 64—MISCELLANEOUS RULES RELATING TO COMMON CARRIERS

4. The authority citation for part 64 continues to read as follows:

Authority: 47 U.S.C. 154, 47 U.S.C. 225, 47 U.S.C. 251(e)(1), 151, 154, 201, 202, 205, 218-220, 254, 302, 303, and 337 unless otherwise noted. Interpret or apply sections 201, 218, 225, 226, 227, 229, 332, 48 Stat. 1070, as amended. 47 U.S.C. 201-204, 208, 225, 226, 227, 229, 332, 501 and 503 unless otherwise noted.

5. Add subpart AA to part 64 to read as follows:

Subpart AA—Universal Emergency Telephone Number
Sec.
Sec. 64.3000. Definitions.
Sec. 64.3001. Obligation to transmit 911 calls.
Sec. 64.3002. Transition to 911 as the universal emergency telephone number.
Sec. 64.3003 Obligation for providing a permissive dialing period.
Sec. 64.3004 Obligation for providing an intercept message.

Subpart AA—Universal Emergency Telephone Number

Authority: 47 U.S.C. 151, 154(i), 154(j), 157, 160, 210, 202, 208, 214, 251(e), 301, 303, 308, 309(j), and 310.

§ 64.3000 Definitions.

(a) 911 calls. Any call initiated by an end user by dialing 911 for the purpose of accessing an emergency service provider. For wireless carriers, all 911 calls include those they are required to transmit pursuant to § 20.18 of the Commission's rules.

(b) Appropriate local emergency authority. An emergency answering point that has not been officially designated as a Public Safety Answering Point (PSAP), but has the capability of receiving 911 calls and either dispatching emergency services personnel or, if necessary, relaying the call to another emergency service provider. An appropriate local emergency authority may include, but is not limited to, an existing local law enforcement authority, such as the police, county sheriff, local emergency medical services provider, or fire department.

(c) Public Safety Answering Point (PSAP). A facility that has been designated to receive 911 calls and route them to emergency services personnel.

(d) Statewide default answering point. An emergency answering point designated by the State to receive 911 calls for either the entire State or those portions of the State not otherwise served by a local PSAP.

§ 64.3001 Obligation to transmit 911 calls.

All telecommunications carriers shall transmit all 911 calls to a PSAP, to a designated statewide default answering point, or to an appropriate local emergency authority as set forth in § 64.3002.

§ 64.3002 Transition to 911 as the universal emergency telephone number.

As of December 11, 2001, except where 911 is already established as the exclusive emergency number to reach a PSAP within a given jurisdiction, telecommunications carriers shall comply with the following transition periods:

(a) Where a PSAP has been designated, telecommunications carriers shall complete all translation and routing necessary to deliver 911 calls to a PSAP no later than September 11, 2002.

(b) Where no PSAP has been designated, telecommunications carriers shall complete all translation and routing necessary to deliver 911 calls to the statewide default answering point no later than September 11, 2002.

(c) Where neither a PSAP nor a statewide default answering point has been designated, telecommunications carriers shall complete the translation and routing necessary to deliver 911 calls to an appropriate local emergency authority, within nine months of a request by the State or locality.

(d) Where no PSAP nor statewide default answering point has been designated, and no appropriate local emergency authority has been selected by an authorized state or local entity, telecommunications carriers shall identify an appropriate local emergency authority, based on the exercise of reasonable judgment, and complete all translation and routing necessary to deliver 911 calls to such appropriate local emergency authority no later than September 11, 2002.

(e) Once a PSAP is designated for an area where none had existed as of December 11, 2001, telecommunications carriers shall complete the translation and routing necessary to deliver 911 calls to that PSAP within nine months of that designation.

§ 64.3003 Obligation for providing a permissive dialing period.

Upon completion of translation and routing of 911 calls to a PSAP, a statewide default answering point, to an appropriate local emergency authority, or, where no PSAP nor statewide default answering point has been designated and no appropriate local emergency authority has been selected by an authorized state or local entity, to an appropriate local emergency authority, identified by a telecommunications carrier based on the exercise of reasonable judgment, the telecommunications carrier shall provide permissive dialing between 911 and any other seven-or ten-digit emergency number or an abbreviated dialing code other than 911 that the public has previously used to reach emergency service providers until the appropriate State or local jurisdiction determines to phase out the use of such seven-or ten-digit number entirely and use 911 exclusively.

§ 64.3004 Obligation for providing an intercept message.

Upon termination of permissive dialing, as provided under § 64.3003, telecommunications carriers shall provide a standard intercept message announcement that interrupts calls placed to the emergency service provider using either a seven-or ten-digit emergency number or an abbreviated dialing code other than 911 and informs the caller of the dialing code change.

[FR Doc. 02-869 Filed 1-11-02; 8:45 am]

BILLING CODE 6712-01-P